DEPARTMENT OF ENERGY

Federal Energy Regulatory Commission

Combined Notice of Filings

February 23, 2009.

Take notice that the Commission has received the following Natural Gas Pipeline Rate and Refund Report filings:

Docket Numbers: RP96-320-099.

Applicants: Gulf South Pipeline Company, LP.

Description: Gulf South Pipeline Company, LP submits capacity release agreement containing negotiated rate provisions with Texla Energy Management, Inc.

Filed Date: 02/19/2009.

Accession Number: 20090220-0289.

Comment Date: 5 p.m. Eastern Time on Tuesday, March 3, 2009.

Docket Numbers: RP03-221-012.

Applicants: High Island Offshore System, LLC.

Description: High Island Offshore System, LLC submits Seventh Revised Sheet 10 to FERC Gas Tariff, Third Revised Volume 1.

Filed Date: 02/17/2009.

Accession Number: 20090218-0056.

Comment Date: 5 p.m. Eastern Time on Monday, March 2, 2009.

Docket Numbers: RP07-125-003.

Applicants: Columbia Gulf Transmission Company.

Description: Columbia Gulf Transmission Co submits its annual report of its operational purchases and sales of natural gas for the 12 months ended 12/31/08.

Filed Date: 02/18/2009.

Accession Number: 20090219-0285.

Comment Date: 5 p.m. Eastern Time on Monday, March 2, 2009.

Docket Numbers: RP07-449-002.

Applicants: Columbia Gas Transmission, LLC.

Description: Columbia Gas Transmission, LLC submits its annual report of its operational purchases and sales of natural gas for the 12 months ended 12/31/08.

Filed Date: 02/18/2009.

Accession Number: 20090219-0283.

Comment Date: 5 p.m. Eastern Time on Monday, March 2, 2009.

Docket Numbers: RP09-369-000.

Applicants: Midcontinent Express Pipeline LLC.

Description: Midcontinent Express Pipeline, LLC submits their Negotiated Rate Transportation Service Agreements and Substitute Original Sheet 2 et al to FERC Gas Tariff, Original Volume 1.

Filed Date: 02/17/2009.

Accession Number: 20090218-0150.

Comment Date: 5 p.m. Eastern Time on Monday, March 2, 2009.

Docket Numbers: RP09-370-000.

Applicants: Hardy Storage Company, LLC.

Description: Hardy Storage Co, LLC submits Second Revised Sheet No. 10 to FERC Gas Tariff, Original Volume No. 1, effective 4/1/09 under RP09-370.

Filed Date: 02/18/2009.

Accession Number: 20090219-0284.

Comment Date: 5 p.m. Eastern Time on Monday, March 2, 2009.

Docket Numbers: RP09-371-000.

Applicants: Crossroads Pipeline Company.

Description: Crossroads Pipeline Company submits Tenth Revised Sheet 6 to its FERC Gas Tariff, First Revised Volume 1, to be effective 4/1/09.

Filed Date: 02/19/2009.

Accession Number: 20090220-0286.

Comment Date: 5 p.m. Eastern Time on Tuesday, March 3, 2009.

Docket Numbers: RP09-372-000.

Applicants: Kern River Gas Transmission Company.

Description: Kern River Transmission Company submits for filing Twentieth Revised Sheet 5 et al to its FERC Gas Tariff, Second Revised Volume 1, to be effective 4/1/09.

Filed Date: 02/19/2009.

Accession Number: 20090220-0287.

Comment Date: 5 p.m. Eastern Time on Tuesday, March 3, 2009.

Docket Numbers: RP09-373-000.

Applicants: Freebird Gas Storage, LLC.

Description: Freebird Gas Storage, LLC submits First Revised Sheet 116 to its FERC Gas Tariff, First Revised Volume 1, to be effective 3/20/09.

Filed Date: 02/19/2009.

Accession Number: 20090220-0288.

Comment Date: 5 p.m. Eastern Time on Tuesday, March 3, 2009.

Docket Numbers: RP09-374-000.

Applicants: Kern River Gas Transmission Company.

Description: Petition of Kern River Gas Transmission Company for a Grant of Limited Waiver of Capacity Release Regulations.

Filed Date: 02/19/2009.

Accession Number: 20090219-5087.

Comment Date: 5 p.m. Eastern Time on Tuesday, March 3, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-4219 Filed 2-26-09; 8:45 am]

BILLING CODE 6717-01-P